FEDERAL COMMUNICATIONS COMMISSION.

47 CFR Part 73

[DA 00-68;MM Docket No. 00-8; RM-9788)

Radio Broadcasting Services; Spencer and Webster, MA.

AGENCY: Federal Communications Commission

ACTION: Proposed rule.

SUMMARY: This document requests comments on a Petition for Rule Making filed on behalf of Montachusett Broadcasting, Inc., licensee of Station WORC-FM, Channel 255A, Spencer, Massachusetts, proposing the reallotment of Channel 255A from Spencer to Webster, Massachusetts, and the modification of the Station WORC-FM license to specify Webster as the community of license. Coordinates for this proposal are 42-02-10 and 71-59-23.

DATES: Comments must be filed on or before March 8, 2000, and reply comments on or before March 23, 2000.

ADDRESSES: Secretary, Federal Communications Commission, Washington, DC, 20554. In addition to filing comments with the FCC, interested parties should serve the petitioner's counsel, as follows:

Erwin G. Krasnow, c/o Verner, Liipert, Bernhard, McPherson and Hand 901, 15th Street, NW, Suite 700, Washington, DC 20005.

FOR FURTHER INFORMATION CONTACT: Robert Hayne, Mass Media Bureau (202) 418-2177.

SUPPLEMENTARY INFORMATION: This is a synopsis of the Commission's Notice of Proposed Rule Making in MM Docket No. 00-8 , adopted January 5, 2000, and released January 14, 2000. The full text of this Commission action is available for inspection and copying during normal business hours in the FCC Reference Information Center at Portals II, CY-A257, 445 12th Street, SW, Washington, D.C. The complete text of this action may also be purchased from the Commission's copy contractor, International Transcription Service, Inc., (202) 857-3800, 1231 20th Street, Washington, D.C. 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio Broadcasting.

Federal Communications Commission.

John A. Karousos,
Chief, Allocations Branch, Policy and Rules Division, Mass Media Bureau.

[FR Doc. 00-1928 Filed 1-26-00; 8:45 am]

BILLING CODE 6712-01-U